ELECTION ASSISTANCE COMMISSION

Sunshine Act Meetings

AGENCY: U.S. Election Assistance Commission.

ACTION: Sunshine Act notice; notice of public meeting agenda.

SUMMARY: Public meeting: U.S. Election Assistance Commission Local Leadership Council meeting.

DATES: Thursday, July 20, 8 a.m.-5 p.m. eastern and Friday, July 21, 8 a.m.-12 p.m. eastern.

ADDRESSES: Fairmont Washington, DC Georgetown, 2401 M Street NW, Washington, DC 20037.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will conduct an annual meeting of the EAC Local Leadership Council to conduct regular business and discuss EAC updates and upcoming programs.

Agenda: The U.S. Election Assistance Commission (EAC) Local Leadership Council will hold its 2023 Annual Meeting primarily to conduct regular business, and discuss EAC updates and upcoming programs, such as election technology. The meeting will include moderated discussion on topics such as training and workforce development, looking ahead to 2024, and making the Local Leadership Council an effective Advisory Board. Throughout the meeting, there will be opportunities for members to ask questions. Additionally, the Board will vote to elect members to executive officer positions, who will be sworn in at the meeting.

Background: The Local Leadership Council was established in June 2021 under agency authority pursuant to and in accordance with the provisions of the Federal Advisory Committee Act, as amended (5 U.S.C. app. 2). The Advisory Committee is governed by the Federal Advisory Committee Act, which sets forth standards for the formation and use of advisory committees. The Advisory Committee advises the EAC on how best to fulfill the EAC's statutory duties set forth in 52 U.S.C. 20922 as well as such other matters as the EAC determines. It shall provide a relevant and comprehensive source of expert, unbiased analysis and recommendations to the EAC on local election administration topics.

The Local Leadership Council consists of 100 members. The Election Assistance Commission appoints two members from each state after soliciting nominations from each state's election official professional association. At the time of submission, the Local Leadership Council has 90 appointed members. Upon appointment, Advisory Committee members must be serving or have previously served in a leadership role in a state election official professional association.

The full agenda will be posted in advance on the EAC website: https://www.eac.gov.

Status: This meeting will be open to the public.

Camden Kelliher,
Senior Associate Counsel, U.S. Election Assistance Commission.

[FR Doc. 2023-13710 Filed 6-23-23; 11:15 am]

BILLING CODE 4810-71-P